UNITED STATES INTERNATIONAL TRADE COMMISSION

[Investigations Nos. 701-TA-365-366 (Review) and 731-TA-734-735 (Review)]

Certain Pasta From Italy and Turkey

Determinations

On the basis of the record ¹developed in the subject five-year reviews, the United States International Trade Commission determines, pursuant to section 751(c) of the Tariff Act of 1930 (19 U.S.C. 1675(c)), that revocation of the countervailing and antidumping duty orders on certain pasta from Italy and Turkey would be likely to lead to continuation or recurrence of material injury to an industry in the United States within a reasonably foreseeable time.

¹ The record is defined in § 207.2(f) of the Commission's Rules of Practice and Procedure (19 CFR 207.2(f)).

Background

The Commission instituted these reviews on June 1, 2001 (66 FR 29831, June 1, 2001) and determined on September 4, 2001 that it would conduct expedited reviews (66 FR 50453, October 3, 2001).

The Commission transmitted its determinations in these reviews to the Secretary of Commerce on October 29, 2001. The views of the Commission are contained in USITC Publication 3462 (October 2001), entitled Certain Pasta from Italy and Turkey: Investigations Nos. 701-TA-365-366 (Review) and 731-TA-734-735 (Review).

Issued: October 29, 2001.
By order of the Commission.
Donna R. Koehnke,
Secretary.

[FR Doc. 01-27539 Filed 11-1-01; 8:45 am]

BILLING CODE 7020-02-P